FEDERAL COMMUNICATIONS COMMISSION

47 CFR Part 54

[WC Docket No. 17-310; FCC 19-78; FRS 16838]

Promoting Telehealth in Rural America

AGENCY: Federal Communications Commission.

ACTION: Final rule; announcement of effective date.

SUMMARY: In this document, the Federal Communications Commission (Commission) announces that the Office of Management and Budget (OMB) has approved, for a period of three years, an information collection associated with the rules for the Telecommunications Program and the Healthcare Connect Fund Program contained in the Commission's Promoting Telehealth in Rural America Report and Order, FCC 19-78, which stated that the Commission would publish a document in the Federal Register announcing the effective date of the new information collection requirements.

DATES: The amendments to 47 CFR 54.622(d) and (e)(2), (4), and (5), 54.623(a)(2) through (4), 54.624, 54.626(b), 54.627(b), and 54.631(d), published at 84 FR 54952, October 11, 2019, are effective June 19, 2020.

FOR FURTHER INFORMATION CONTACT: Bryan Boyle, Telecommunications Access Policy Division, Wireline Competition Bureau at (202) 418-7400 or TTY: (202) 418-0484 or via email: Bryan.Boyle@fcc.gov. For additional information concerning the Paperwork Reduction Act information collection requirements, contact Nicole Ongele at (202) 418-2991 or via email: Nicole.Ongele@fcc.gov.

SUPPLEMENTARY INFORMATION: The Commission submitted new information collection requirements for review and approval by OMB, as required by the Paperwork Reduction Act of 1995, on April 7, 2020, which were approved by the OMB on May 22, 2020. The information collection requirements are contained in the Commission's

Promoting Telehealth in Rural America Report and Order, FCC 19-78, published at 84 FR 54952, October 11, 2019. The OMB Control Number is 3060-0804. The Commission publishes this document as an announcement of the effective date of the rules published on October 11, 2019. If you have any comments on the burden estimates listed herein, or how the Commission can improve the collection and reduce any burdens caused thereby, the Commission will accept your comments via email at PRA@fcc.gov. Please include the OMB Control Number, 3060-0804, in your correspondence. Due to the COVID-19 pandemic, the Commission's headquarters will be closed to the general public and will only be accepting electronic submissions until further notice.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on May 22, 2020 for the information collection requirements contained in 47 CFR 54.622(d) and (e)(2), (4), and (5), 54.623(a)(2) through (4), 54.624, 54.626(b), 54.627(b), and 54.631(d) published at 84 FR 54952, October 11, 2019. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0804.

The foregoing notice is required by the Paperwork Reduction Act of 1995, Public Law 104-13, October 1, 1995, and 44 U.S.C. 3507.

The total annual reporting burdens and costs for the respondents are as follows:

OMB Control Number: 3060-0804.

OMB Approval Date: May 22, 2020.

OMB Expiration Date: May 31, 2023.

Title: Universal Service—Rural Health Care Program.

Form Nos.: FCC Forms 460, 461, 462, 463, 465, 466, and 467.

Type of Review: Revision of a currently approved collection.

Respondents: Business or other for-profit; Not-for-profit institutions; Federal Government; and State, Local, or Tribal governments.

Number of Respondents and Responses: 10,494 unique respondents; 93,687 responses.

Estimated Time per Response: 0.30-17 hours.

Frequency of Response: On occasion, one-time, annual, quarterly, and monthly reporting requirements.

Obligation to Respond: Required to obtain or retain benefits. Statutory authority for this collection of information is contained in sections 1-4, 201-205, 214, 254, 303(r), and 403 of the Communications Act of 1934, as amended, 47 U.S.C. 151-154, 201-205, 214, 254, 303(r), and 403, unless otherwise noted.

Total Annual Burden: 382,741 hours.

Total Annual Cost: No Cost.

Privacy Impact Assessment: No Impact(s).

Nature and Extent of Confidentiality: There is no assurance of confidentiality provided to respondents concerning this information collection. Information submitted on FCC Forms for the RHC Program is subject to public inspection and is used by USAC to update and expand the RHC Program dataset as part of its Open Data Platform. However, respondents may request materials or information submitted to the Commission or to USAC be withheld from public inspection under 47 CFR 0.459 of the Commission's rules.

Needs and Uses: This collection is utilized for the RHC support mechanism of the Commission's universal service fund (USF). The Commission and the Universal Service Administrative Company (USAC) will use the information collected to determine if entities are eligible for funding pursuant to the RHC universal service support mechanism, to determine whether entities are complying with the Commission's rules, and to prevent waste, fraud, and abuse. This information also allows the Commission to evaluate the extent to which the RHC Program is meeting the statutory objectives specified in section 254(h) of the 1996 Act, and the Commission's performance goals for the RHC Program.

To aid in collecting this information, the public will use the Commission's forms to provide the necessary information and certifications. This revision modifies the existing information collection requirements applicable to both the Healthcare Connect Fund and Telecommunications (Telecom) Programs as a result of the 2019 Promoting Telehealth Report and Order. The revisions, where applicable, are intended to make the RHC Program information requests consistent between the programs, to the extent possible, and help to ensure and verify that RHC Program participants are not engaging in fraudulent conduct or otherwise violating the Commission's rules.

Federal Communications Commission.
Cecilia Sigmund,
Federal Register Liaison Officer, Office of the Secretary.

[FR Doc. 2020-12844 Filed 6-18-20; 8:45 am]

BILLING CODE 6712-01-P